DEPARTMENT OF AGRICULTURE

Forest Service

Boise National Forest; Idaho; Upper Middle Fork Payette River Project

AGENCY: Forest Service, USDA.

ACTION: Revised notice of intent to prepare an environmental impact statement.

SUMMARY: The Cascade Ranger District of the Boise National Forest will prepare an environmental impact statement (EIS) for a resource management project in the Middle Fork of the Payette River drainage. The project involves 864 acres of timber stand treatment in the 15,881-acre project area, less than a mile of road construction, nearly 3 miles of road reconstruction, and less than a mile of road decommissioning. The entire project area is located within watersheds that drain directly into the Middle Fork of the Payette River or its tributaries. The project area is located 12 miles east of Cascade, Idaho, and about 100 miles north of Boise, Idaho.

DATES: Comments concerning the scope of the analysis should be postmarked within 30 days following publication of this announcement in the Federal Register. The draft environmental impact statement is expected in January 2003 and the final environmental impact statement is expected in April 2003.

ADDRESSES: Send written comments to Keith Dimmett, Cascade Ranger District, P.O. Box 696, Cascade, ID 83611.

FOR FURTHER INFORMATION CONTACT: Keith Dimmett, Project Leader, Cascade Ranger District at the address mentioned above or by calling (208)382-7430.

SUPPLEMENTARY INFORMATION: The NFMA planning for this project was initiated in the spring of 2001 with the Upper Middle Fork Payette River Ecosystem Analysis at the Watershed Scale (EAWS). A letter announcing plans to complete the EAWS and soliciting comments was mailed to interested individuals and/or groups in March of 2001.

A notice of intent to prepare an EIS for a similar project in the same location appeared on page 24097 of the Federal Register on May 11, 2001. This revised notice is being provided due to minor changes since the original notification, changed on-the-ground conditions, and because of the time that has elapsed since the original notice of intent. In July 2001 the Forest Supervisor elected to delay the Upper Middle Fork Payette River Project until a variety of road restoration measures aimed at reducing road-related sedimentation and enhancing bull trout habitat in the project area were implemented. A large portion of those restoration activities were implemented in the summer of 2002 as part of the Middle Fork Roads Restoration Project, with the remaining activities scheduled for implementation in the summer of 2003.

Roughly 70 percent of the project area occurs within one of two inventoried roadless areas (IRA's). A portion of the Peace Rock IRA occupies an estimated 8,947 acres, and a section of the Stony Meadows IRA another 2,357 acres of the project area. A large portion of the project area also occurs within Management Area 43 (Peace Rock). The Proposed Action does not include any management activities within either IRA or within Management Area 43. Instead, management activities associated with the Proposed Action have been confined to the roaded portion of the project area, consisting of roughly 4,302 acres. The Middle Fork Payette River originates within, and runs through the center of the project area. The Forest Plan discloses that that segment of the river from Railroad Pass to the Middle Fork Bridge on the #409 road is potentially eligible for inclusion in the National Wild and Scenic River system as a “wild” river. However, in June of 1991 the Forest Plan corrected to show that this segment of the river is potentially eligible as a “recreational” river.

Purpose and Need for Action

Two primary objectives have been identified for the project: (1) Reduce current and future stand susceptibility to western spruce budworm, Douglas-fir beetle, and/or mountain pine beetle, and; (2) improve long-term stand growth to or near levels indicative of healthy, sustainable forests.

Proposed Action

The Proposed Action would treat an estimated 864 acres in the 15,881 acre project area. Proposed activities would occur within a portion of the 67,637 acre Gold Fork/Clear Creek Management Area 53. An estimated 4.0 MMbf of timber would be harvested using ground-based (683 acres), skyline (24 acres), and helicopter (157 acres) yarding systems. The Proposed Action would employ a variety of silvicultural prescriptions including commercial thin (169 acres), improvement cut/sanitation (427 acres), seed cut shelterwood (92 acres), final removal shelterwood (141 acres), and clearcut with reserve trees (35 acres). The existing transportation system would be improved to facilitate log haul and reduce sedimentation with individual sections of 2.9 miles of road being reconstructed. An estimated 0.7 miles of specified road and 0.2 miles of temporary road would be constructed to facilitate harvest. In addition, 0.9 miles of the #409F road, currently closed year-round would be decommissioned.

Possible Alternatives

One alternative to the Proposed Action, a No Action Alternative, has been discussed thus far. Other alternatives will likely be developed as issues are identified and information received.

Responsible Official

Suzanne C. Rainville, Acting Forest Supervisor, Boise National Forest, 1249 South Vinnell Way, Boise, ID 83709.

Nature of Decision To Be Made

The Boise National Forest Supervisor will decide the following. Should roads be built and timber harvested within the project area at this time, and if so; where within the project area, and how many miles of road should be built; and which stands should be treated and what silvicultural systems should be used? What design features and/or mitigation measures should be applied to the project? Should the decommissioning of existing roads be implemented at this time?

Scoping Process

The agency invites written comments and suggestions on the scope of the analysis. In addition to this notice, a proposed action letter will be sent to interested government officials, agencies, groups, and individuals. No public meetings are currently planned.

Preliminary Issues

Preliminary concerns with the Proposed Action include: (1) Potential impacts on sediment delivery to area streams; (2) potential impacts on bull trout, and; (3) potential impacts on the visual quality of the area.

Comment Requested

This notice of intent initiates the scoping process which guides the development of the environmental impact statement. Specific written comments on the proposed action will be most helpful.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRCD, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 409 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: October 21, 2002.
Suzanne C. Rainville,
Acting Forest Supervisor.

[FR Doc. 02-27737 Filed 10-31-02; 8:45 am]

BILLING CODE 3410-11-M